DEPARTMENT OF TRANSPORTATION

Federal Railroad Administration

[Docket Number FRA-2016-0116]

Notice of Application for Approval To Discontinue or Modify a Railroad Signal System

Under part 235 of Title 49 of the Code of Federal Regulations (CFR) and 49 U.S.C. 20502(a), this document provides the public notice that on July 21, 2017, CSX Transportation, Inc. (CSXT) petitioned the Federal Railroad Administration (FRA) requesting reconsideration of a prior FRA decision granting conditional relief from certain provisions of 49 CFR part 236. FRA assigned the petition Docket Number FRA-2016-0116.

In a May 30, 2017 decision, the FRA's Railroad Safety Board (Board) conditionally approved CSXT's petition for a waiver of compliance from 49 CFR 236.60, Switch Shunting Circuit; Use Restricted. The Board stated in its decision the single condition of this relief was that it did not apply in Positive Train Control (PTC) territory or on tracks leading to PTC territory. CSXT states the May 30th decision did not provide an explanation why this condition was included.

As CSXT explains in its request for reconsideration, under the requirements of the Rail Safety Improvement Act of 2008 (Pub. L. 110-432, Oct. 16, 2008), and the Positive Train Control Enforcement and Implementation Act of 2015 (Pub. L. 114-73, 129 Stat. 576, 582, Oct. 29, 2015), all required PTC hardware must be installed on or before December 31, 2018. CSXT has determined that, to date, there are approximately 250 switches utilizing shunt only protection on subdivisions where PTC has been installed or must be installed by December 31, 2018. CSXT states that excluding all PTC territory and tracks leading to PTC territory from the waiver would require it to modify these 250 switches by adding track circuit breaks to each location on or before December 31, 2018. CSXT asserts that while it remains on track to meet its PTC hardware installation requirement, also requiring these shunt-only protected switches to be modified puts CSXT's ability to meet this deadline into serious jeopardy, because it would add a significant amount of unplanned work to Engineering Department employees.

As an alternative to this requirement to modify shunt only protected switches in PTC territory, CSXT requests that the Board modify the waiver to allow CSXT to grandfather the current 250 shunt-only protected switches located in PTC territory or on tracks leading to PTC territory into this waiver.

A copy of the petition, as well as any written communications concerning the petition, is available for review online at www.regulatons.gov and in person at the U.S. Department of Transportation's Docket Operations Facility, 1200 New Jersey Avenue SE., W12-140, Washington, DC 20590. The Docket Operations Facility is open from 9 a.m. to 5 p.m., Monday through Friday, except Federal holidays.

Interested parties are invited to participate in these proceedings by submitting written views, data, or comments. FRA does not anticipate scheduling a public hearing in connection with these proceedings since the facts do not appear to warrant a hearing. If any interested parties desire an opportunity for oral comment, they should notify FRA, in writing, before the end of the comment period and specify the basis for their request.

All communications concerning these proceedings should identify the appropriate docket number and may be submitted by any of the following methods:

• Web site: http://www.regulations.gov. Follow the online instructions for submitting comments.

• Fax: 202-493-2251.

• Mail: Docket Operations Facility, U.S. Department of Transportation, 1200 New Jersey Avenue SE., W12-140, Washington, DC 20590.

• Hand Delivery: 1200 New Jersey Avenue SE., Room W12-140, Washington, DC 20590, between 9 a.m. and 5 p.m., Monday through Friday, except Federal holidays.

Communications received by October 5, 2017 will be considered by FRA before final action is taken. Comments received after that date will be considered if practicable.

Anyone can search the electronic form of any written communications and comments received into any of our dockets by the name of the individual submitting the comment (or signing the document, if submitted on behalf of an association, business, labor union, etc.). Under 5 U.S.C. 553(c), DOT solicits comments from the public to better inform its processes. DOT posts these comments, without edit, including any personal information the commenter provides, to www.regulations.gov, as described in the system of records notice (DOT/ALL-14 FDMS), which can be reviewed at https://www.transportation.gov/privacy. See also https://www.regulations.gov/privacyNotice for the privacy notice of regulations.gov.

Issued in Washington, DC, on August 14, 2017.
John Karl Alexy,
Director, Office of Safety Analysis.

[FR Doc. 2017-17586 Filed 8-18-17; 8:45 am]

BILLING CODE 4910-06-P